DEPARTMENT OF TRANSPORTATION

Federal Aviation Administration

14 CFR Part 39

[Docket No. 2001-NE-14-AD]

RIN 2120-AA64

Airworthiness Directives; Rolls-Royce plc Models Spey 506-14A, 555-15, 555-15H, 555-15N, and 555-15P Turbojet Engines

AGENCY: Federal Aviation Administration, DOT.

ACTION: Notice of proposed rulemaking (NPRM).

SUMMARY: The Federal Aviation Administration (FAA) proposes to adopt a new airworthiness directive (AD) that is applicable to Rolls-Royce plc (RR) Spey 506-14A, 555-15, 555-15H, 555-15N, and 555-15P turbojet engines. This proposal would require replacing certain stage 2 low pressure turbine (LPT) blades with new redesigned stage 2 LPT blades. This proposal is prompted by several reports of failures of stage 2 LPT blades. The actions specified by the proposed AD are intended to prevent failure of the stage 2 LPT blades, which could result in an engine shutdown.

DATES: Comments must be received by June 17, 2002.

ADDRESSES: Submit comments in triplicate to the Federal Aviation Administration (FAA), New England Region, Office of the Regional Counsel, Attention: Rules Docket No. 2001-NE-14-AD, 12 New England Executive Park, Burlington, MA 01803-5299. Comments may be inspected at this location, by appointment, between 8:00 a.m. and 4:30 p.m., Monday through Friday, except Federal holidays. Comments may also be sent via the Internet using the following address: “9-ane-adcomment@faa.gov”. Comments sent via the Internet must contain the docket number in the subject line. The service information referenced in the proposed rule may be obtained from Rolls-Royce plc, P.O. Box 31, Derby DE24 6BJ, UK; Telephone 44 (0) 1332 242424; fax 44 (0) 1332 249936. This information may be examined, by appointment, at the FAA, New England Region, Office of the Regional Counsel, 12 New England Executive Park, Burlington, MA.

FOR FURTHER INFORMATION CONTACT: Keith Mead, Aerospace Engineer, Engine Certification Office, FAA, Engine and Propeller Directorate, 12 New England Executive Park, Burlington, MA 01803-5299; telephone (781) 238-7744; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-14-AD.” The postcard will be date stamped and returned to the commenter.

Availability of NPRM's

Any person may obtain a copy of this NPRM by submitting a request to the FAA, New England Region, Office of the Regional Counsel, Attention: Rules Docket No. 2001-NE-14-AD, 12 New England Executive Park, Burlington, MA 01803-5299.

Discussion

The Civil Aviation Authority (CAA), which is the airworthiness authority for the United Kingdom (UK), recently notified the FAA that an unsafe condition may exist on RR Spey 506-14A, 555-15, 555-15H, 555-15N, and 555-15P turbojet engines. The CAA advises that there have been several failures of stage 2 LPT blades that have resulted in in-flight shutdown events. Analysis shows that an unacceptable probability level of a failure of the stage 2 LPT blades, which could result in an engine shutdown, could occur if the existing design blades are not replaced within the specified compliance times.

Manufacturer's Service Information

RR has issued service bulletin (SB) No. Sp72-1064, Revision 1, dated February 1, 2001, that provides procedures to replace existing stage 2 LPT blades with new redesigned stage 2 LPT blades. The CAA classified this service bulletin as mandatory and issued AD 005-07-2000 in order to assure the airworthiness of these RR Spey 506-14A, 555-15, 555-15H, 555-15N, and 555-15P turbojet engines in the UK.

Bilateral Agreement Information

This engine model is manufactured in the UK and is type certificated for operation in the United States under the provisions of Section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Proposed Requirements of This AD

Since an unsafe condition has been identified that is likely to exist or develop on other RR Spey 506-14A, 555-15, 555-15H, 555-15N, and 555-15P turbojet engines of the same type design that are used on airplanes registered in the United States, the proposed AD would require replacing existing stage 2 LPT blades, part numbers (P/N's) JR34024 and JR34069, with new redesigned stage 2 LPT blades, P/N JR35388. The actions would be required to be done in accordance with the service bulletin described previously.

Economic Analysis

There are approximately 407 engines of the affected design in the worldwide fleet. The FAA estimates that 54 engines installed on airplanes of U.S. registry would be affected by this proposed AD. The FAA also estimates that it would take approximately 200 work hours per engine to accomplish the proposed actions, and that the average labor rate is $60 per work hour. Required parts would cost approximately $89,981 per engine. Based on these figures, the total cost of the proposed AD on U.S. operators is estimated to be $5,506,974.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Rolls-Royce plc:

Docket No. 2001-NE-14-AD.

Applicability

This airworthiness directive (AD) is applicable to Rolls-Royce plc (RR) Spey 506-14A, 555-15, 555-15H, 555-15N, and 555-15P turbojet engines with stage 2 low pressure turbine (LPT) blades, part numbers (P/N's) JR34024 or JR34069 installed. These engines are installed on, but not limited to British Aerospace Airbus Ltd. BAC 1-11 and Fokker F.28 Mark 1000, Mark 2000, Mark 3000, and Mark 4000 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated, unless already done.

To prevent failure of the stage 2 LPT blades, which could result in an engine shutdown, do the following:

(a) Replace existing stage 2 LPT blades P/N's JR34024 and JR34069 with complete sets of serviceable blades in accordance with the Accomplishment Instructions of RR service bulletin Sp72-1064, Revision 1, dated February 1, 2001, and the following compliance times:

(1) For RR Spey 506-14A engines, replace blades at the next piece-part opportunity, but no later than June 30, 2010.

(2) For Spey 555-15, 555-15H, 555-15N, and 555-15P turbojet engines, replace blades at the next piece-part opportunity, but no later than December 31, 2005.

Alternative Methods of Compliance

(b) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(c) Special flight permits may be issued in accordance with §§ 21.197 and 21.199 of the Federal Aviation Regulations (14 CFR 21.197 and 21.199) to operate the airplane to a location where the requirements of this AD can be done.

Note 3: The subject of this AD is addressed in CAA airworthiness directive 005-07-2000.

Issued in Burlington, Massachusetts, on April 11, 2002.
Francis A. Favara,
Acting Manager, Engine and Propeller Directorate, Aircraft Certification Service.

[FR Doc. 02-9394 Filed 4-17-02; 8:45 am]

BILLING CODE 4910-13-P